DEPARTMENT OF LABOR

Employment and Training Administration

Labor Surplus Area Classifications Under Executive Orders 12073 and 10582

ACTION: Notice of additions to the labor surplus area list.

DATE: June 3, 2002.

SUMMARY: The purpose of this notice is to announce additions to the labor surplus area list for Fiscal Year (FY) 2002. Three areas are added to the list under the exceptional circumstances criteria: Coos County, New Hampshire; Essex County, Vermont, and Putnam County, Illinois. Coos County, New Hampshire and Essex County, Vermont are effective April 1, 2002. Putnam County, Illinois is effective June 3, 2002.

FOR FURTHER INFORMATION CONTACT: Gay Gilbert, Division Chief, U.S. Employment Service, Employment and Training Administration, 200 Constitution Avenue, NW., Room C4512, Washington, DC 20210. Telephone: (202) 693-3046.

SUPPLEMENTARY INFORMATION: The Department of Labor regulations implementing Executive Orders 12073 and 10582 are set forth at 20 CFR Part 654, Subparts A and B. These regulations require the Assistant Secretary of Labor to classify jurisdictions as labor surplus areas pursuant to the criteria specified in the regulations and to publish annually a list of labor surplus areas. These regulations also provide for the designation as a labor surplus area under exceptional circumstances criteria. Pursuant to those regulations the Assistant Secretary of Labor is hereby publishing additions to the annual list of labor surplus areas for FY 2002.

Eligible labor surplus areas | Civil jurisdictions included
Illinois: Putnam County | Putnam County.
New Hampshire: Coos County | Coos County.
Vermont: Essex County | Essex County.

For the convenience of the public, the Labor Surplus Area list is posted on the Internet at the following addresses: www.doleta.gov and www.usworkforce.org.

Emily Stover DeRocco,
Assistant Secretary of Labor.

[FR Doc. 02-17322 Filed 7-9-02; 8:45 am]

BILLING CODE 4510-30-M